DEPARTMENT OF COMMERCE

National Telecommunications and Information Administration

First Responder Network Authority Board Meeting

AGENCY: National Telecommunications and Information Administration, U.S. Department of Commerce.

ACTION: Notice regarding public meeting.

SUMMARY: This notice provides additional information regarding the public meeting of the Board of the First Responder Network Authority (FirstNet) to be held on February 12, 2013.

DATES: The meeting will be held on February 12, 2013, from 9 a.m. to 12:30 p.m. Mountain Standard Time.

ADDRESSES: Board members will meet at the National Institute of Standards and Technology (NIST) Radio Building 1 (Room 1107), 325 Broadway, Boulder, CO 80305-3328.

FOR FURTHER INFORMATION CONTACT: Uzoma Onyeije, Secretary, FirstNet, U.S. Department of Commerce, 1401 Constitution Avenue NW., Washington, DC 20230, (202) 482-0016, uzoma@firstnet.gov. Please direct media inquiries to NTIA's Office of Public Affairs, (202) 482-7002.

SUPPLEMENTARY INFORMATION: On January 14, 2013, NTIA published a notice in the Federal Register announcing a public meeting of the FirstNet Board to be held on February 12, 2013 in Boulder, Colorado. 78 FR 2660 (Jan. 14, 2013). This Notice is intended to inform the public that the Board may, by a majority vote, close a portion of its February 12 meeting as necessary to preserve the confidentiality of commercial or financial information that is privileged or confidential, to discuss personnel matters, or to discuss legal matters affecting the First Responder Network Authority, including pending or potential litigation. See 47 U.S.C. 1424(e)(2).

Dated: January 22, 2013.
Kathy D. Smith,
Chief Counsel, National Telecommunications and Information Administration.

[FR Doc. 2013-01568 Filed 1-24-13; 8:45 am]

BILLING CODE 3510-60-P